DEPARTMENT OF THE INTERIOR

Bureau of Land Management

[UT-080-1430-BG]

Closure of Public Lands: Utah

AGENCY: Bureau of Land Management, Interior.

ACTION: Temporary Emergency Closure of Public Land in Uintah County, Utah.

SUMMARY: Notice is hereby given that the Vernal Field Office is re-issuing a temporary emergency closure of public land in Uintah County, Utah, effective January 1, 2003. This order temporarily closes 1,320 acres of public land to public land to public use and entry. This temporary closure area encompasses the following public land:

Salt Lake Meridian, Utah

T.10 S., R. 24 E.,

Sec. 22, E½, E½NW¼, SW¼NW¼, SW¼;

Sec. 23, W½;

Sec. 26, NW¼, NW¼;

Sec. 27, NE¼, E½NW¼, NE¼SW¼, N½SE¼.

The authorized officer has determined that the underground methane generation occurring at the abandoned White River Oil Shale Mine is a safety hazard making the facility and surrounding area unsafe for human occupation of activity. The closure area effects the above described public land presently encumbered by the abandoned White River Oil Shale Mine, ancillary support facilities, and associated ventilation shafts. The closure prohibits all use, entry, or access onto the affected public lands; however, the access restriction may be waived under extraordinary circumstances where limited, short term, emergency access is warranted and appropriate clearances and authorization are obtained from the authorized officer.

If BLM authorizes emergency access, it will be conditioned on the following provisions:

All persons entering and leaving the closure area must be accompanied by personnel from the BLM's Vernal Field Office and only after BLM has determined that the area is safe for a site visit.

All persons allowed emergency access into the closure area must waive and release all direct and indirect claims that my occur against the United States for liability for any loss, damage, personal injury, or death that may occur as a result of their access to the closure area and will indemnify and hold harmless the United States. All such incidents shall immediately be reported to the BLM Vernal Field Office.

The purpose of this closure is to protect human life, ensure public safety, and prevent human contact with a known hazardous situation. A map of the area affected by this closure is on file and may be viewed at the BLM Vernal Field Office.

EFFECTIVE DATE: The closure order is effective from January 1, 2003, through December 31, 2004, unless it is rescinded or modified by the authorized officer before that date.

SUPPLEMENTARY INFORMATION: This closure is done under the authority of 43 CFR 8364.1. Persons violating this closure shall be subject to the penalties provided in 43 CFR 8360.0-7, including a fine not to exceed $1,000.00 and/or imprisonment not to exceed one year.

FOR FURTHER INFORMATION CONTACT: The BLM Vernal Field office, 170 South 500 East, Vernal, Utah 84078, (435) 781-4400.

Dated: October 2, 2002.
David E. Howell,
Field Manager.

[FR Doc. 02-31404 Filed 12-12-02; 8:45 am]

BILLING CODE 4310-DQ-M